DEPARTMENT OF AGRICULTURE

Federal Crop Insurance Corporation

7 CFR Parts 400, 407 and 457

RIN 0563-AB85

General Administrative Regulations, Subpart T—Federal Crop Insurance Reform, Insurance Implementation, Regulations for the 1999 and Subsequent Reinsurance Years; Group Risk Plan of Insurance Regulations for the 2001 and Succeeding Crop Years; and the Common Crop Insurance Regulations, Basic Provisions

AGENCY: Federal Crop Insurance Corporation, USDA.

ACTION: Notice of reopening and extension of comment period.

SUMMARY: The Federal Crop Insurance Corporation is reopening and extending the comment period for the proposed rule that was published in the Federal Register on Wednesday, September 18, 2002 (67 FR 58912-58933) that amended the General Administrative Regulations, Subpart T; Group Risk Plan of Insurance Regulations; and the Common Crop Insurance Regulations, Basic Provisions. The proposed rule implements certain provisions of the Agricultural Risk Protection Act of 2000 (ARPA) eliminating identified program vulnerabilities that have lead to potential fraud, waste, and abuse, and make such other changes to existing policy provisions to better meet the needs of producers. This action will allow interested persons additional time to prepare and submit comments.

DATES: Written comments and opinions on this proposed rule will be accepted until close of business November 12, 2002, and will be considered when the rule is to be made final.

ADDRESSES: Interested persons are invited to submit written comments to the Director, Product Development Division, Risk Management Agency, United States Department of Agriculture, 6501 Beacon Drive, Stop 0812, Room 421, Kansas City, MO 64133-4676. Comments titled “Basic Provisions” may also be sent via the Internet to DirectorPDD@rm.fcic.usda.gov. A copy of each comment will be available for public inspection and copying from 7 a.m. to 4:30 p.m., CDT, Monday through Friday, except holidays, at the above address.

FOR FURTHER INFORMATION CONTACT: Janice Nuckolls, Insurance Management Specialist, Research and Development, Product Development Division, Risk Management Agency, at the Kansas City, MO address listed above, telephone (816) 926-7730.

SUPPLEMENTARY INFORMATION:

Background

On Wednesday, September 18, 2002, FCIC published a proposed rule with request for comments in the Federal Register proposing changes to subpart T in the General Administrative Regulations, the Group Risk Plan of Insurance Regulations, and the Common Crop Insurance Regulations; Basic Provisions to implement program changes mandated by ARPA, and make other changes to existing policy provisions to better meet the needs of the insured.

Comments were required to be received on or before October 18, 2002. Based on requests received during the comment period, we are reopening and extending the comment period until November 12, 2002. This action will allow interested persons additional time to prepare and submit comments.

Signed in Washington, DC, on October 23, 2002.
Ross J. Davidson, Jr.,
Manager, Federal Crop Insurance Corporation.

[FR Doc. 02-27367 Filed 10-25-02; 8:45 am]

BILLING CODE 3410-08-P